FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Amoy International, LLC dba Amoy Line, 14145 Proctor Avenue, Suite 14, City of Industry, CA 91746.

Officer: Yi Fan Chen, President (Qualifying Individual).

Global Association of Forwarders & Shippers, 19618 S. Susana Road, Rancho Dominguez, CA 90221.

Officers: John J. Brown, President (Qualifying Individual), Karana Brown, Secretary.

Castle Shipping Lines, Inc., 4225 Nicols Road, Eagan, MN 55122-1919.

Officer: John T. Andrusko, President.

Non-Vessel Operating Common Carrier and Ocean Freight Forwarder Transportation Intermediary Applicant:

Continental Shipping, 648 Bay Street, Suite 303, Staten Island, NY 10304. Leonor Antonieta Garcia Balseca; Sole Proprietor.

Ocean Freight Forwarder—Ocean Transportation Intermediary Applicant:

East-West CFS, Inc., 14821 Northam Street, La Mirada, CA 90638.

Officers: Sherry Wang, President (Qualifying Individual); Cheng Lu, CFO/Secretary.

Dated: July 23, 2004.
Bryant L. VanBrakle,
Secretary.

[FR Doc. 04-17193 Filed 7-27-04; 8:45 am]

BILLING CODE 6730-01-P